DEPARTMENT OF HEALTH AND HUMAN SERVICES

Food and Drug Administration

[Docket No. FDA-2009-N-0667]

[FDA-2008-N-0043]

Amendment to Memorandum of Understanding Between the Food and Drug Administration and WebMD, LLC

AGENCY: Food and Drug Administration, HHS.

ACTION: Notice.

SUMMARY: The Food and Drug Administration (FDA) is providing notice of an amendment to a memorandum of understanding (MOU) between FDA's Office of External Relations and WebMD, LLC.

DATES: The amendment became effective October 14, 2009.

FOR FURTHER INFORMATION CONTACT: Jason Brodsky, Office of External Relations (HFI-40), Food and Drug Administration, 5600 Fishers Lane, Rockville, MD 20857, 301-827-6251, e-mail: Jason.Brodsky@fda.hhs.gov.

SUPPLEMENTARY INFORMATION: Under section VII, Assessment Mechanisms, of the October 2008 MOU (73 FR 73941, December 4, 2008 ), FDA and WebMD, LLC agree that the first paragraph of section VII of the October 2008 MOU shall be replaced with the following paragraph:

The October 2008 Memorandum of Understanding between the Food and Drug Administration and WebMD will continue as written for five years from the date of the signature by the latter Party to sign the October 2009 Addendum to the Memorandum between the Food and Drug Administration and WebMD, L.L.C., whereupon the MOU may be renewed or terminated by mutual written consent. In addition, at any time, the Parties may modify or terminate the Agreement by mutual written consent, and either Party may modify or terminate the Agreement by mutual consent, and either Party may terminate the Agreement at any time by means of a written notice of termination.

In accordance with 21 CFR 20.108(c), which states that all written agreements and MOUs between FDA and others shall be published in the Federal Register, the agency is publishing notice of this MOU.

Dated: October 30, 2009.
David Horowitz,
Assistant Commissioner for Policy.

BILLING CODE 4160-01-S

[FR Doc. E9-26674 Filed 11-4-09; 8:45 am]

BILLING CODE 4160-01-C